GULF COAST ECOSYSTEM RESTORATION COUNCIL

[Docket No.: 111132025-1111-03]

Senior Executive Service Performance Review Board Membership

AGENCY: Gulf Coast Ecosystem Restoration Council (GCERC).

ACTION: Notice of Performance Review Board (PRB) appointments.

SUMMARY: This notice announces the members of the Senior Executive Service (SES) Performance Review Board. The PRB is comprised of a chairperson and a mix of state representatives and career senior executives that meet annually to review and evaluate performance appraisal documents and provide a written recommendation to the Chairperson of the Council for final approval of each executive's performance rating, performance-based pay adjustment, and performance award.

DATES: The board membership is applicable beginning on 5/01/2025 and ending on 12/31/25.

FOR FURTHER INFORMATION CONTACT: Mary S. Walker, Executive Director, Gulf Coast Ecosystem Restoration Council, telephone 504-210-9982.

SUPPLEMENTARY INFORMATION: In accordance with 5 U.S.C. 4314(c)(4), the persons named below have been selected to serve on the PRB:

Gulf Coast Ecosystem Restoration Council

Walker, Mary S., Executive Director, Mary.Walker@restorethegulf.gov, 504-210-9982

Department of Interior

Blanchard, Mary Josie, Deputy Director, Environmental Protection Compliance, MaryJosie_Blanchard@ios.doi.gov, 202-208-3406

State of Florida

Blalock, Adam, Deputy Secretary for Ecosystem Restoration, Adam.Blalock@floridadep.gov, 850-245-2118

State of Texas

Schar, Steven, Deputy Executive Director, Texas Commission on Environmental Quality, steven.schar@tceq.texas.gov, 512-239-3900

Environmental Protection Agency

Fotouhi, David, Deputy Administrator, EPA, Atkinson.Emily@epa.gov, 202-564-4700

Keala J. Hughes,
Director of External Affairs & Tribal Relations, Gulf Coast Ecosystem Restoration Council.

[FR Doc. 2025-19987 Filed 11-14-25; 8:45 am]

BILLING CODE 6560-58-P